DEPARTMENT OF DEFENSE

Office of the Secretary of Defense

[DOD-2007-OS-0027]

Privacy Act of 1974; Systems of Records

AGENCY: Defense Logistics Agency, DOD.

ACTION: Notice To Alter a System of Records.

SUMMARY: The Defense Logistics Agency proposes to alter a system of records notice in its existing inventory of records systems subject to the Privacy Act of 1974, (5 U.S.C. 552a), as amended.

DATES: This proposed action will be effective without further notice on April 27, 2007 unless comments are received which result in a contrary determination.

ADDRESSES: Send comments to the Privacy Act Officer, Headquarters, Defense Logistics Agency, ATTN: DP, 8725 John J. Kingman Road, Stop 2533, Fort Belvoir, VA 22060-6221.

FOR FURTHER INFORMATION CONTACT: Ms. Jody Sinkler at (703) 767-5045.

SUPPLEMENTARY INFORMATION: The Defense Logistics Agency systems of records notices subject to the Privacy Act of 1974, (5 U.S.C. 552a), as amended, have been published in the Federal Register and are available from the address above.

The proposed system reports, as required by 5 U.S.C. 552a(r), of the Privacy Act of 1974, as amended, were submitted on March 13, 2007, to the House Committee on Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: March 14, 2007.
C.R. Choate,
Alternate OSD Federal Register Liaison Officer, Department of Defense.

S352.10 DLA-KW

System name:

Award, Recognition, and Suggestion File (November 16, 2004, 69 FR 67112).

Changes:

System identifier:

Delete “DLA-KW” from entry.

System name:

Delete entry and replace with “Suggestion Files”.

* * * * *

Categories of individuals covered by the system:

Delete entry and replace with “Individuals who have submitted suggestions to improve the economy, efficiency, or operation of the Defense Logistics Agency and the Federal Government.”

Categories of records in the system:

Delete entry and replace with “File contains individual's name, home address and telephone numbers, organization, background material, evaluations submitted in support of suggestion program, and award or recognition documents authorized for a suggestion.”

Authority for maintenance of the system:

Delete entry and replace with “5 U.S.C. 301, Departmental Regulations; 10 U.S.C. 1124, Cash awards for disclosures, suggestions, inventions, and scientific achievements; and DOD Manual 1400.25-M, DOD Civilian Personnel Manual, subchapter 451, Awards.”

Purpose(s):

Delete entry and replace with “Information is maintained to evaluate suggestions, to process award or recognition documents, and to prepare reports”.

Routine uses of records maintained in the system, including categories of users and the purposes of such uses:

Delete second paragraph and replace with “To Federal, state, and local agencies and private organizations to research and evaluate suggestions or to process award or recognition documents.”

* * * * *

Retrievability:

Delete entry and replace with “Records are retrieved by individual's name, and/or suggestion number.”

Safeguards:

Delete entry and replace with “Access is limited to those individuals who require access to the records to perform official, assigned duties. Physical access is limited through the use of locks, guards, card swipe, and other administrative procedures. The electronic records deployed on accredited systems with access restricted by the use of login, password, and/or care swipe protocols. Employees are warned through screen log-on, protocols and period briefings of the consequences of improper access or use of the data. In addition, users are required to shutdown their workstations when leaving the work area. The web-based files are encrypted in accordance with approved information assurance protocols. During non-duty hours, records are secured in access-controlled buildings, offices, cabinets or computer systems. Individuals granted access to the system of records receives Information Assurance and Privacy training.”

Retention and disposal:

Delete entry and replace with “Records are destroyed 3 years after disapproval, completion of testing, or permanent implementation, as applicable.”

* * * * *

S352.10

System name:

Suggestion Files.

System location:

Headquarters, Defense Logistics Agency, ATTN: J-14, 8725 John J Kingman Road, Stop 6231, Fort Belvoir, VA 22060-6221, and the Defense Logistics Agency Field Activities.

Official mailing addresses are published as an appendix to DLA's compilation of records systems notices.

Categories of individuals covered by the system:

Individuals who have submitted suggestions to improve the economy, efficiency, or operation of the Defense Logistics Agency and the Federal Government.

Categories of records in the system:

File contains individual's name, home address and telephone numbers, organization, background material and evaluations submitted in support of suggestion program, and award or recognition documents authorized for a suggestion.

Authority for maintenance of the system:

5 U.S.C. 301, Departmental Regulations; 10 U.S.C. 1124, Cash awards for disclosures, suggestions, inventions, and scientific achievements; and DOD Manual 1400.25-M, DOD Civilian Personnel Manual, subchapter 451, Awards.

Purpose(s):

Information is maintained to evaluate suggestions, to process award or recognition documents, and to prepare reports.

Routine uses of records maintained in the system, including categories of users and the purposes of such uses:

In addition to those disclosures generally permitted under 5 U.S.C. 552a(b) of the Privacy Act, these records or information contained therein may specifically be disclosed outside the DOD as a routine use pursuant to 5 U.S.C. 552a(b)(3) as follows:

To Federal, state, and local agencies and private organizations to research and evaluate suggestions or to process award or recognition documents.

The DOD “Blanket Routine Uses” also apply to this system of records.

Policies and practices for storing, retrieving, accessing, retaining, and disposing of records in the system:

Storage:

Records are maintained on paper and electronic storage media.

Retrievability:

Records are retrieved by individual's name, and/or suggestion number.

Safeguards:

Access is limited to those individuals who require access to the records to perform official, assigned duties. Physical access is limited through the use of locks, guards, card swipe, and other administrative procedures. The electronic records deployed on accredited systems with access restricted by the use of login, password, and/or card swipe protocols. Employees are warned through screen log-on, protocols and period briefings of the consequences of improper access or use of the data. In addition, users are required to shutdown their workstations when leaving the work area. The web-based files are encrypted in accordance with approved information assurance protocols. During non-duty hours, records are secured in access-controlled buildings, offices, cabinets or computer systems. Individuals granted access to the system of records receives Information Assurance and Privacy training.

Retention and disposal:

Records are destroyed 3 years after disapproval, completion of testing, or permanent implementation, as applicable.

System manager(s) and address:

Staff Director, Human Resources Policy and Information, ATTN: J-14, 8725 John J. Kingman Road, Fort Belvoir, VA 22060-6221.

Notification procedure:

Individuals seeking to determine whether this system of records contains information about themselves should address written inquiries to the Privacy Act Officer, Headquarters, Defense Logistics Agency, ATTN: DP, 8725 John J. Kingman Road, Stop 2533, Fort Belvoir, VA 22060-6221.

Individual must provide their name, suggestion description, and activity at which nomination or suggestion was submitted.

Record access procedures:

Individuals seeking access to information about themselves contained in this system of records should address written inquiries to the Privacy Act Officer, Headquarters, Defense Logistics Agency, ATTN: DP, 8725 John J. Kingman Road, Stop 2533, Fort Belvoir, VA 22060-6221.

Individual must provide their name, suggestion description, and activity at which nomination or suggestion was submitted.

Contesting record procedures:

The DLA rules for accessing records, for contesting contents and appealing initial agency determinations are contained in 32 CFR part 323, or may be obtained from the Privacy Act Officer, Headquarters, Defense Logistics Agency, ATTN: DP, 8725 John J. Kingman Road, Stop 2533, Fort Belvoir, VA 22060-6221.

Record source categories:

Record subject, DLA supervisors, and individuals who evaluate the suggestions.

Exemptions claimed for the system:

None.

[FR Doc. 07-1376 Filed 3-27-07; 8:45 am]

BILLING CODE 5001-06-P